DEPARTMENT OF AGRICULTURE

Natural Resources Conservation Service

Task Force on Agricultural Air Quality

AGENCY: Natural Resources Conservation Service, USDA.

ACTION: Notice of appointment of members and of meeting.

SUMMARY: The Secretary of Agriculture has appointed new members to the Task Force on Agricultural Air Quality. Please see the list at the end of this notice. In addition, the Task Force on Agricultural Air Quality will meet to continue discussions on critical air quality issues in relation to agriculture. Special emphasis will be placed on obtaining a greater understanding about the relationship between agricultural production and air quality. The meeting is open to the public.

DATES: The meeting will convene Tuesday, May 20, 2003, at 9 a.m., and continue until 4 p.m. and will resume Wednesday, May 21, 2003, from 9 a.m. to 4 p.m. Individuals with written material and those who have requests to make oral presentations should contact the Natural Resources Conservation Service, at the address below, on or before May 7, 2003.

ADDRESSES: The meeting will be held at the Hall of the States Building in Room 333, 444 North Capitol Street, Washington, DC 20001, telephone (202) 624-8570. Written material and requests to make oral presentations should be sent to Beth Sauerhaft, USDA-NRCS, Post Office Box 2890, Room 6158, Washington, DC 20013.

FOR FURTHER INFORMATION CONTACT: Questions or comments should be directed to Beth Sauerhaft, Designated Federal Official; telephone: (202) 720-8578; fax: (202) 720-2646; e-mail: Beth.Sauerhaft@usda.gov.

SUPPLEMENTARY INFORMATION: Notice of this meeting is given under the Federal Advisory Committee Act, 5 U.S.C. App. 2. Additional information about the Task Force on Agricultural Air Quality, including any revised agendas for the May 20 and 21, 2003, meeting that occur after this Federal Register Notice is published, may be found on the World Wide Web at http://fargo.nserl.purdue.edu/faca.

2003-2004 Task Force on Agricultural Air Quality—Members

Alabama

Tommy L. Coleman, Alabama A&M University

Arizona

Kevin G. Rogers, Producer

California

Mark P. Boese, San Joaquin Valley Unified Air Pollution Control District

Manuel F. Cunha, Jr., Nisei Farmers League

Robert G. Flocchini, University of California-Davis

Roger Isom, California Cotton Ginners & Growers

Hawaii

Stephanie A. Whalen, Hawaii Agricultural Research Center

Idaho

Dave Roper, Producer

Dar Olberding, Idaho Grain Producers

Illinois

James K. Trotter, Producer

Indiana

Robert N. Jackman, Veterinarian, State Senator

Rita Sharma, Producer

Maryland

Phillip J. Wakelyn, National Cotton Council of America

New York

Douglas Shelmidine, Producer

North Carolina

Viney P. Aneja, North Carolina State University

Garth W. Boyd, Smithfield Foods, Inc.

Joseph Rudek, Environmental Defense

Sally L. Shaver, U.S. Environmental Protection Agency

Oklahoma

Annette H. Sharp, Oklahoma Department of Environmental Quality

Texas

Robert V. Avant, Jr., Texas Food and Fibers Commission

Calvin B. Parnell, Jr., Texas A&M University

John M. Sweeten, Jr., Texas A&M University

Utah

Nan Wankier Bunker, Producer

West Virginia

Timothy Wade Maupin, Cargill Turkey Products

Draft Agenda of the May 20 and 21, 2003, Meeting

A. Welcome to Washington, DC

1. USDA and NRCS Officials

B. Discussion of Federal Advisory Committee Act (FACA) Rules

C. USDA Update

• NRCS

• ARS

• CSREES

• FS

D. EPA Update

• National Academy of Sciences Scientific Assessment

• Status of the Voluntary Compliance Policy

• Other Issues

E. New Topics

• Clean Air Advisory Committee Update

• Discussion of Goals for Task Force During This Charter

• External Speaker—to be decided upon

F. Next Meeting, Time/Place

G. Public Input (Time will be reserved before lunch and at the close of each daily session to receive public comment. Individual presentations will be limited to 5 minutes).

Procedural

This meeting is open to the public. At the discretion of the Chair, members of the public may give oral presentations during the meeting. Persons wishing to make oral presentations should notify Beth Sauerhaft no later than May 7, 2003. If a person submitting material would like a copy distributed to each member of the committee in advance of the meeting, that person should submit 25 copies to Beth Sauerhaft no later than May 7, 2003.

Information on Services for Individuals With Disabilities

For information on facilities or services for individuals with disabilities or to request special assistance at the meeting, contact Beth Sauerhaft.

USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (braille, large print, audio tape, etc.) should contact the USDA's Target Center at (202) 720-2000 (voice and TDD). The USDA is an equal opportunity provider and employer.

Signed in Washington, DC, on April 25, 2003.
Bruce I. Knight,
Chief, Natural Resources Conservation Service.

[FR Doc. 03-11040 Filed 5-2-03; 8:45 am]

BILLING CODE 3410-16-P